DEPARTMENT OF ENERGY

Federal Energy Regulatory Commission

[Docket No. CP15-118-000]

Transcontinental Gas Pipe Line Company, LLC; Notice of Schedule for Environmental Review of the Virginia Southside Expansion Project II

On March 23, 2015, Transcontinental Gas Pipe Line Company, LLC (Transco) filed an application in Docket No. CP15-118-000 requesting a Certificate of Public Convenience and Necessity pursuant to Section 7(c) of the Natural Gas Act to construct and operate the Virginia Southside Expansion Project II (Project). The purpose of the Project is to provide up to 250,000 dekatherms per day of firm natural gas transportation service to a planned Virginia Electric and Power Company combined-cycle gas-fired power station in Greensville County, Virginia.

On April 1, 2015, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of the EA April 29, 2016

90-day Federal Authorization Decision Deadline July 28, 2016

If a schedule change becomes necessary, an additional notice will be provided so that the relevant agencies are kept informed of the Project's progress.

Project Description

Transco proposes to construct and operate 4.3 miles of 24-inch-diameter pipeline, a meter and regulator station, and pig launcher/receiver facilities in Brunswick and Greensville Counties, Virginia. In addition, Transco would add 21,830 horsepower of compression to Compressor Station 166 in Pittsville County, Virginia; add 25,000 horsepower of compression to Compressor Station 185 in Prince William County, Virginia; and construct minor modifications at 19 facilities in Cherokee and Spartanburg Counties, South Carolina and Polk County, North Carolina, including odorization/deodorization facility modifications, valves, and valve operators.

Background

On May 6, 2015, the Commission issued a Notice of Intent to Prepare an Environmental Assessment for the Proposed Virginia Southside Expansion II Project and Request for Comments on Environmental Issues (NOI). The NOI was sent to affected landowners; federal, state, and local government agencies; elected officials; environmental and public interest groups; Native American tribes; other interested parties; and local libraries and newspapers. In response to the NOI, the Commission received comments from the Virginia Department of Conservation and Recreation, Virginia Department of Environmental Quality, Virginia Department of Historical Resources, Appalachian Mountain Advocates, Sierra Club, and two individuals. The primary issues raised by commentors are potential impacts on the Manassas stonefly and freshwater mussels; affects to historic properties; proximity to residences and easement compensation; pipeline safety; compliance with Virginia's Coastal Zone Management Program; connected, cumulative, and similar actions, with specific reference to Transco's Atlantic Sunrise Project (Docket No. CP15-138-000); and the indirect and cumulative impacts of the Greenville Power Plant.

Additional Information

In order to receive notification of the issuance of the EA and to keep track of all formal issuances and submittals in specific dockets, the Commission offers a free service called eSubscription. This can reduce the amount of time you spend researching proceedings by automatically providing you with notification of filings, document summaries, and direct links to the documents. Go to http://www.ferc.gov/docs-filing/esubscription.asp.

Additional information about the Project is available from the Commission's Office of External Affairs at (866) 208-FERC or on the FERC Web site (www.ferc.gov). Using the “eLibrary” link, select “General search” from the eLibrary menu, enter the selected date range and “Docket Number” excluding the last three digits (i.e., CP15-118), and follow the instructions. For assistance with access to eLibrary, the helpline can be reached at (866) 208-3676, TTY (202) 502-8659, or at FERCOnlineSuppport@ferc.gov. The eLibrary link on the FERC Web site also provides access to the texts of formal documents issued by the Commission, such as orders, notices, and rule makings.

Dated: March 7, 2016.
Nathaniel J. Davis, Sr.,
Deputy Secretary.

[FR Doc. 2016-05505 Filed 3-10-16; 8:45 am]

BILLING CODE 6717-01-P